DEPARTMENT OF COMMERCE

Bureau of Export Administration

President's Export Council Subcommittee on Encryption; Notice of Open Meeting

The President's Export Council Subcommittee on Encryption (PECSENC) will meet on February 25, 2000, at the Hewlett-Packard Company, Spyglass Room, Building 5, 1501 Page Mill Road, Palo Alto, California, 94304. The meeting will begin at 9:00 a.m. and is scheduled to adjourn at 4 p.m. The Subcommittee provides advice on matters pertinent to policies regarding commercial encryption products.

Open Session: 9:00 a.m.-4 p.m.

1. Opening remarks by the Chairman

2. Presentation of papers or comments by the public

3. Update on Bureau of Export Administration initiatives

4. Issue briefings

5. Open discussion

The meeting is open to the public and a limited number of seats will be available. Reservations are not required. To the extent time permits, members of the public may present oral statements to the PECSENC. The public may submit written statements at any time before or after the meeting. However, to facilitate distribution of public presentation materials to PECSENC members, the PECSENC suggests that public presentation materials or comments be forwarded before the meeting to the address listed below: Ms. Lee Ann Carpenter, Advisory Committees MS: 3876, U.S. Department of Commerce, 15th St. & Pennsylvania Ave, NW, Washington, DC 20230.

For more information, contact Ms. Carpenter on (202) 482-2583.

Dated: February 3, 2000.
Brian Nilsson,
Acting Assistant Secretary.

[FR Doc. 00-2860 Filed 2-8-00; 8:45 am]

BILLING CODE 3510-33-M